COMMITTEE FOR THE IMPLEMENTATION OF TEXTILE AGREEMENTS

Withdrawal of Three Commercial Availability Petitions under the United States - Caribbean Basin Trade Partnership Act (CBTPA)

July 29, 2004.

AGENCY: Committee for the Implementation of Textile Agreements (CITA).

ACTION: The petitioner has notified CITA that it is withdrawing three of the twelve petitions it submitted for determinations that certain woven, 100 percent cotton, flannel fabrics cannot be supplied by the domestic industry in commercial quantities in a timely manner under the CBTPA.

SUMMARY: On July 14, 2004, the Chairman of CITA received twelve petitions from Sandler, Travis & Rosenberg, P.A., on behalf of Picacho, S.A., alleging that certain woven, 100 percent cotton, flannel fabrics, of certain specifications, cannot be supplied by the domestic industry in commercial quantities in a timely manner. The petitions requested that shirts, trousers, nightwear, robes, dressing gowns and woven underwear of such fabrics assembled in one or more CBTPA beneficiary countries be eligible for preferential treatment under the CBTPA. On July 22, 2004, CITA published a notice in the Federal Register (69 FR 43805) soliciting public comments on these petitions, in particular with regard to whether these fabrics can be supplied by the domestic industry in commercial quantities in a timely manner.

On July 28, 2004, CITA received letter from Sandler, Travis & Rosenberg, P.A. withdrawing three of the petitions. The three fabrics covered by the petitions that are being withdrawn were identified as Fabrics 2, 9, and 11 in the Federal Register notice. The specifications of these three fabrics are repeated below. The petitioner states that these contain “minor but significant errors with regard to the coloration of the fibers and yarns of each fabric.”

FOR FURTHER INFORMATION CONTACT: Janet E. Heinzen, International Trade Specialist, Office of Textiles and Apparel, U.S. Department of Commerce, (202) 482-3400.

Specifications:

Fabric 2 |
HTS Subheading: | 5208.42.30.00
Fiber Content: | 100% Cotton
Weight: | 152.6 g/m2
Width: | 150 centimeters cuttable
Thread Count: | 24.4 warp ends per centimeter; 15.7 filling picks per centimeter; total: 40.1 threads per square centimeter
Yarn Number: | Warp: 40.6 metric, ring spun; filling: 20.3 metric, open end spun; overall average yarn number: 39.4 metric
Finish: | of yarns of different colors; napped on both sides, sanforized
*cotton fiber must all be stock dyed prior to carding in order to produce the desired heather effect in the finished fabric. |
Fabric 9 |
HTS Subheading: | 5209.41.60.40
Fiber Content: | 100% Cotton
Weight: | 251 g/m2
Width: | 160 centimeters cuttable
Thread Count: | 22.8 warp ends per centimeter; 17.3 filling picks per centimeter; total: 40.18 threads per square centimeter
Yarn Number: | Warp: 40.6 metric, ring spun; filling: 8.46 metric, open end spun; overall average yarn number: 24.1 metric
Finish: | gingham check or plaid of yarns of different colors; napped on both sides, sanforized
Fabric 11 |
HTS Subheading: | 5209.41.60.40
Fiber Content: | 100% Cotton
Weight: | 251 g/m2
Width: | 160 centimeters cuttable
Thread Count: | 20.1 warp ends per centimeter; 16.5 filling picks per centimeter; total: 36.6 threads per square centimeter
Yarn Number: | Warp: 27.07 metric, ring spun; filling: 10.16 metric, open end spun; overall average yarn number: 23.3 metric
Finish: | Plaid, of yarns of different colors; napped on both sides, sanforized
*The cotton fiber must all be stock dyed prior to carding in order to produce the desired heather effect in the finished fabric. |

James C. Leonard III,
Chairman, Committee for the Implementation of Textile Agreements.

[FR Doc.04-17642 Filed 7-29-04; 2:02 pm]

BILLING CODE 3510-DR-S